LEGAL SERVICES CORPORATION

Notice of Availability of Calendar Year 2002 Competitive Grant Funds

AGENCY: Legal Services Corporation.

ACTION: Solicitation for proposals for the provision of civil legal services.

SUMMARY: The Legal Services Corporation (LSC) is the national organization charged with administering federal funds provided for civil legal services to the poor.

LSC hereby announces the availability of competitive grant funds and is soliciting grant proposals from interested parties who are qualified to provide effective, efficient and high quality civil legal services to eligible clients in the states and territories, by service area(s) identified below. The exact amount of congressionally appropriated funds and the date, terms and conditions of their availability for calendar year 2002 have not been determined.

DATES: See Supplementary Information section for grants competition dates.

ADDRESSES: Legal Services Corporation—Competitive Grants, 750 First Street NE., 10th Floor, Washington, DC 20002-4250.

FOR FURTHER INFORMATION CONTACT: Office of Program Performance, Competitive Grants—Service Desk at (202) 336-8900, by FAX at (202) 336-7272, by e-mail at competition@lsc.gov, or visit the LSC web site at www.ain.lsc.gov.

SUPPLEMENTARY INFORMATION: Request for Proposals (RFP) will be available during the week of April 23, 2001. Applicants must file a Notice of Intent to Compete (NIC) to participate in the competitive grants process. The due date for filing the NIC is May 25, 2001.

Applicants competing for service areas in Alabama, Arizona, California, District of Columbia, Florida, Georgia, Illinois, Kansas (service area MKS), Massachusetts, Mississippi, Montana, Nevada, New Jersey (service area NJ-10), New York, Virginia and West Virginia must submit grant proposals for service areas in these states by June 18, 2001, 5 p.m. EDT.

Applicants competing for service areas in Arkansas, Kentucky, Louisiana, Michigan, New Mexico, North Carolina, Oklahoma, South Carolina, Tennessee, Texas, and Wisconsin must submit grant proposals for service areas in these states by July 02, 2001, 5 p.m. EDT.

LSC is seeking proposals from: (1) Non-profit organizations that have as a purpose the furnishing of legal assistance to eligible clients; (2) private attorneys; (3) groups of private attorneys or law firms; (4) State or local governments; and (5) substate regional planning and coordination agencies which are composed of substate areas and whose governing boards are controlled by locally elected officials.

The RFP, containing the grant application, guidelines, proposal content requirements and specific selection criteria, is available from the LSC web site at www.ain.lsc.gov. LSC will not FAX the solicitation package to interested parties.

Below are the service areas for which LSC is requesting grant proposals. Service area descriptions are available from Appendix A of the RFP. The RFP will be available during the week of April 23, 2001, at www.ain.lsc.gov.

State | Service area
Alabama | AL-1, AL-2, AL-3
Arizona | AZ-2, AZ-3, AZ-5, MAZ, NAZ-5, NAZ-6
Arkansas | AR-6, AR-7
California | CA-1, CA-27, CA-28, NCA-1
District of Columbia | DC-1
Florida | FL-1, FL-2, FL-3, FL-4, FL-5, FL-6, FL-7, FL-8, FL-9, FL-10, FL-11, FL-12, MFL
Georgia | GA-1, GA-2, MGA
Illinois | IL-3, IL-7
Kansas | MKS
Kentucky | KY-2, KY-5, KY-9, KY-10
Louisiana | LA-9, LA-10, LA-11
Massachusetts | MA-1, MA-2, MA-3, MA-4, MA-5, MA-10
Michigan | MI-12, MI-13, MI-14, MI-15, MMI, NMI-1
Mississippi | MS-2, MS-3, MS-7, MS-8, NMS-1
Montana | MT-1, MMT, NMT-1
Nevada | NV-1, MNV, NNV-1
New Jersey | NJ-10
New Mexico | NM-1, NM-5, MNM, NNM-4, NNM-2
New York | NY-1, NY-3, NY-4, NY-6, NY-7, NY-8, NY-9, NY-10, NY-13, NY-14, NY-15, NY-16, NY-18, NY-19, MNY
North Carolina | NC-5, MNC, NNC-1
Oklahoma | OK-3, MOK, NOK-1
South Carolina | SC-8, MSC
Tennessee | TN-4, TN-7, TN-9, TN-10
Texas | TX-13, TX-14, TX-15, NTX
Virginia | VA-16, VA-17, VA-18, VA-19, VA-20, MVA
West Virginia | WV-5, MWV
Wisconsin | WI-5, NWI-1, MWI

Dated: April 16, 2001.
Randi Youells,
Vice-President for Programs.

[FR Doc. 01-9723 Filed 4-18-01; 8:45 am]

BILLING CODE 7050-01-P